DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on November 13, 2025. See Supplementary Information for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On November 13, 2025, OFAC determined that the property and interests in property subject to U.S. jurisdiction of the following persons are blocked under the relevant sanctions authorities listed below.

Individuals

1. BAKU, Eselda (a.k.a. HYSA, Eselda), Ensenada, Baja California, Mexico; DOB 24 Jun 1987; POB Elbasan, Albania; nationality Albania; Gender Female (individual) [TCO] (Linked To: ENTRETENIMIENTO PALERMO S.A. DE C.V.).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended) for being owned or controlled by, or having acted or purported to act for or on behalf of, directly or indirectly, ENTRETENIMIENTO PALERMO S.A. DE C.V., a person whose property and interests in property are blocked pursuant to E.O. 13581, as amended.

2. HYSA, Arben, Mexico; DOB 15 Sep 1970; POB Belsh, Albania; nationality Albania; Gender Male; Passport BJ4897370 (Albania) expires 09 Mar 2024; C.U.R.P. HAXA700915HNEYXR02 (Mexico) (individual) [TCO] (Linked To: HYSA ORGANIZED CRIME GROUP).

Designated pursuant to section 1(a)(ii)(C) of E.O. 13581, as amended, for being owned or controlled by, or having acted or purported to act for or on behalf of, directly or indirectly, HYSA ORGANIZED CRIME GROUP, a person whose property and interests in property are blocked pursuant to E.O. 13581, as amended.

3. HYSA, Fabjon, Canada; DOB 27 Sep 1993; POB Elbasan, Albania; nationality Albania; Gender Male; Passport 1893770 (Albania) expires 15 Jun 2006 (individual) [TCO] (Linked To: HYSA ORGANIZED CRIME GROUP).

Designated pursuant to section 1(a)(ii)(C) of E.O. 13581, as amended, for being owned or controlled by, or having acted or purported to act for or on behalf of, directly or indirectly, HYSA ORGANIZED CRIME GROUP, a person whose property and interests in property are blocked pursuant to E.O. 13581, as amended.

4. HYSA, Fatos, Albania; DOB 15 Jun 1972; nationality Albania; Gender Male; Passport BF5921175 (Albania) expires 07 Jan 2031 (individual) [TCO] (Linked To: HYSA ORGANIZED CRIME GROUP).

Designated pursuant to section 1(a)(ii)(C) of E.O. 13581, as amended, for being owned or controlled by, or having acted or purported to act for or on behalf of, directly or indirectly, HYSA ORGANIZED CRIME GROUP, a person whose property and interests in property are blocked pursuant to E.O. 13581, as amended.

5. HYSA, Luftar, Montreal, Quebec, Canada; Mexico; DOB 01 Mar 1967; POB Elbasan, Albania; nationality Albania; Gender Male; Passport BC5833174 (Albania) expires 22 Jul 2020; C.U.R.P. HAXL670301HNEYXF01 (Mexico) (individual) [TCO] (Linked To: HYSA ORGANIZED CRIME GROUP).

Designated pursuant to section 1(a)(ii)(C) of E.O. 13581, as amended, for being owned or controlled by, or having acted or purported to act for or on behalf of, directly or indirectly, HYSA ORGANIZED CRIME GROUP, a person whose property and interests in property are blocked pursuant to E.O. 13581, as amended.

6. HYSA, Ramiz, Rosarito, Baja California, Mexico; DOB 08 Sep 1962; POB Belsh, Albania; nationality Albania; Gender Male; Passport BC5006114 (Albania) expires 05 Oct 2026 (individual) [TCO] (Linked To: HYSA ORGANIZED CRIME GROUP).

Designated pursuant to section 1(a)(ii)(C) of E.O. 13581, as amended, for being owned or controlled by, or having acted or purported to act for or on behalf of, directly or indirectly, HYSA ORGANIZED CRIME GROUP, a person whose property and interests in property are blocked pursuant to E.O. 13581, as amended.

7. LOPEZ LOPEZ, Gilberto, Mazatlan, Sinaloa, Mexico; DOB 25 Feb 1981; POB Culiacan, Mexico; nationality Mexico; Gender Male; C.U.R.P. LOLG810225HSLPPL07 (Mexico) (individual) [TCO] (Linked To: ENTRETENIMIENTO PALERMO S.A. DE C.V.).

Designated pursuant to section 1(a)(ii)(C) of E.O. 13581, as amended, for being owned or controlled by, or having acted or purported to act for or on behalf of, directly or indirectly, ENTRETENIMIENTO PALERMO S.A. DE C.V., a person whose property and interests in property are blocked pursuant to E.O. 13581, as amended.

Entities

1. HYSA ORGANIZED CRIME GROUP, Mexico; Albania; Target Type Criminal Organization [TCO].

Designated pursuant to section (1)(a)(ii)(A) of E.O. 13581, as amended, for being a foreign person that constitutes a significant transnational criminal organization.

2. BLIRI S.A. DE C.V., Nuevo Leon, Mexico; Organization Established Date 28 Feb 2007; Organization Type: Manufacture of industrial, electric and electronic machinery; Folio Mercantil No. 102358 (Mexico) [TCO] (Linked To: HYSA, Luftar; Linked To: HYSA, Arben).

Designated pursuant to section 1(a)(ii)(C) of E.O. 13581, as amended, for being owned or controlled by, or having acted or purported to act for or on behalf of, directly or indirectly, Luftar Hysa, a person whose property and interests in property are blocked pursuant to E.O. 13581, as amended.

Designated pursuant to section 1(a)(ii)(C) of E.O. 13581, as amended, for being owned or controlled by, or having acted or purported to act for or on behalf of, directly or indirectly, Arben Hysa, a person whose property and interests in property are blocked pursuant to E.O. 13581, as amended.

3. CUCINA DEL PORTO S.A. DE C.V., Sinaloa, Mexico; Organization Established Date 31 May 2023; Organization Type: Other food service activities; Folio Mercantil No. 5331 (Mexico) [TCO] (Linked To: LOPEZ LOPEZ, Gilberto).

Designated pursuant to section 1(a)(ii)(C) of E.O. 13581, as amended, for being owned or controlled by, or having acted or purported to act for or on behalf of, directly or indirectly, Gilberto Lopez Lopez, a person whose property and interests in property are blocked pursuant to E.O. 13581, as amended.

4. DIVERSIONES LOS MOCHIS S.A. DE C.V., Nuevo Leon, Mexico; Organization Established Date 03 Jun 2009; Organization Type: Manufacture of industrial, electric and electronic machinery; Folio Mercantil No. 115186 (Mexico) [TCO] (Linked To: HYSA, Arben).

Designated pursuant to section 1(a)(ii)(C) of E.O. 13581, as amended, for being owned or controlled by, or having acted or purported to act for or on behalf of, directly or indirectly, Arben Hysa, a person whose property and interests in property are blocked pursuant to E.O. 13581, as amended.

5. EL ARTE DE COCINAS Y BEBER S.A. DE C.V., Sinaloa, Mexico; Organization Established Date 31 May 2023; Organization Type: Other food service activities; Folio Mercantil No. 5330 (Mexico) [TCO] (Linked To: LOPEZ LOPEZ, Gilberto).

Designated pursuant to section 1(a)(ii)(C) of E.O. 13581, as amended, for being owned or controlled by, or having acted or purported to act for or on behalf of, directly or indirectly, Gilberto Lopez Lopez, a person whose property and interests in property are blocked pursuant to E.O. 13581, as amended.

6. ENTRETENIMIENTO PALERMO S.A. DE C.V., Sonora, Mexico; Organization Established Date 13 Feb 2009; Organization Type: Manufacture of industrial, electric and electronic machinery; Folio Mercantil No. 3833 (Mexico) [TCO] (Linked To: HYSA, Arben).

Designated pursuant to section 1(a)(ii)(C) of E.O. 13581, as amended, for being owned or controlled by, or having acted or purported to act for or on behalf of, directly or indirectly, Arben Hysa, a person whose property and interests in property are blocked pursuant to E.O. 13581, as amended.

7. ENTRETENIMIENTO VILLAHERMOSA S.A. DE C.V., Nuevo Leon, Mexico; Organization Established Date 05 Oct 2009; Organization Type: Manufacture of industrial, electric and electronic machinery; Folio Mercantil No. 117297 (Mexico) [TCO] (Linked To: HYSA, Arben).

Designated pursuant to section 1(a)(ii)(C) of E.O. 13581, as amended, for being owned or controlled by, or having acted or purported to act for or on behalf of, directly or indirectly, Arben Hysa, a person whose property and interests in property are blocked pursuant to E.O. 13581, as amended.

8. ENTRETENIMIENTO Y ESPECTACULOS B.C. S.A. DE C.V., Baja California, Mexico; Organization Established Date 13 Sep 2011; Organization Type: Gambling and betting activities; Folio Mercantil No. 33240 (Mexico) [TCO] (Linked To: HYSA, Luftar).

Designated pursuant to section 1(a)(ii)(C) of E.O. 13581, as amended, for being owned or controlled by, or having acted or purported to act for or on behalf of, directly or indirectly, Luftar Hysa, a person whose property and interests in property are blocked pursuant to E.O. 13581, as amended.

9. GRUPO INTERNACIONAL CANHYSAMEX S.A. DE C.V., Nuevo Leon, Mexico; Organization Established Date 06 Aug 2012; Organization Type: Financial and Insurance Activities; Folio Mercantil No. 134828 (Mexico) [TCO] (Linked To: HYSA, Arben).

Designated pursuant to section 1(a)(ii)(C) of E.O. 13581, as amended, for being owned or controlled by, or having acted or purported to act for or on behalf of, directly or indirectly, Arben Hysa, a person whose property and interests in property are blocked pursuant to E.O. 13581, as amended.

10. H HIDROCARBUROS S.A. DE C.V., Nuevo Leon, Mexico; Organization Established Date 08 Jun 2015; Organization Type: Manufacture of refined petroleum products; Folio Mercantil No. 153471 (Mexico) [TCO] (Linked To: HYSA, Arben).

Designated pursuant to section 1(a)(ii)(C) of E.O. 13581, as amended, for being owned or controlled by, or having acted or purported to act for or on behalf of, directly or indirectly, Arben Hysa, a person whose property and interests in property are blocked pursuant to E.O. 13581, as amended.

11. HYSA FORWARDERS S.A. DE C.V., Nuevo Leon, Mexico; Organization Established Date 10 Jun 2021; Organization Type: Retail sale of clothing, footwear and leather articles in specialized stores; Folio Mercantil No. 35583 (Mexico) [TCO] (Linked To: HYSA, Luftar; Linked To: HYSA, Arben).

Designated pursuant to section 1(a)(ii)(C) of E.O. 13581, as amended, for being owned or controlled by, or having acted or purported to act for or on behalf of, directly or indirectly, Luftar Hysa, a person whose property and interests in property are blocked pursuant to E.O. 13581, as amended.

Designated pursuant to section 1(a)(ii)(C) of E.O. 13581, as amended, for being owned or controlled by, or having acted or purported to act for or on behalf of, directly or indirectly, Arben Hysa, a person whose property and interests in property are blocked pursuant to E.O. 13581, as amended.

12. HYSA HOLDINGS INC (a.k.a. GESTION HYSA INC), Montreal, Quebec, Canada; Organization Established Date 27 Oct 2011; Company Number 798018-3 (Canada); Business Number 842067886RC0001 (Canada) [TCO] (Linked To: HYSA, Luftar).

Designated pursuant to section 1(a)(ii)(C) of E.O. 13581, as amended, for being owned or controlled by, or having acted or purported to act for or on behalf of, directly or indirectly, Luftar Hysa, a person whose property and interests in property are blocked pursuant to E.O. 13581, as amended.

13. LH PRO-GAMING S.A. DE C.V., Nuevo Leon, Mexico; Organization Established Date 25 Apr 2019; Organization Type: Other amusement and recreation activities; Folio Mercantil No. 48625 (Mexico) [TCO] (Linked To: HYSA, Luftar; Linked To: HYSA, Arben).

Designated pursuant to section 1(a)(ii)(C) of E.O. 13581, as amended, for being owned or controlled by, or having acted or purported to act for or on behalf of, directly or indirectly, Luftar Hysa, a person whose property and interests in property are blocked pursuant to E.O. 13581, as amended.

Designated pursuant to section 1(a)(ii)(C) of E.O. 13581, as amended, for being owned or controlled by, or having acted or purported to act for or on behalf of, directly or indirectly, Arben Hysa, a person whose property and interests in property are blocked pursuant to E.O. 13581, as amended.

14. LH RENTAL S.A. DE C.V., Nuevo Leon, Mexico; Organization Established Date 20 May 2019; Organization Type: Manufacture of industrial, electric and electronic machinery; Folio Mercantil No. 48939 (Mexico) [TCO] (Linked To: HYSA, Arben).

Designated pursuant to section 1(a)(ii)(C) of E.O. 13581, as amended, for being owned or controlled by, or having acted or purported to act for or on behalf of, directly or indirectly, Arben Hysa, a person whose property and interests in property are blocked pursuant to E.O. 13581, as amended.

15. OPERADORA ALEJIL S.A. DE C.V., Nuevo Leon, Mexico; Organization Established Date 24 Jan 2014; Organization Type: Financial and Insurance Activities; Folio Mercantil No. 143781 (Mexico) [TCO] (Linked To: LOPEZ LOPEZ, Gilberto).

Designated pursuant to section 1(a)(ii)(C) of E.O. 13581, as amended, for being owned or controlled by, or having acted or purported to act for or on behalf of, directly or indirectly, Gilberto Lopez Lopez, a person whose property and interests in property are blocked pursuant to E.O. 13581, as amended.

16. OPERADORA DE EMPRESAS LH S.A. DE C.V., Nuevo Leon, Mexico; Organization Established Date 29 May 2013; Organization Type: Financial and Insurance Activities; Folio Mercantil No. 140893 (Mexico) [TCO] (Linked To: HYSA, Luftar; Linked To: HYSA, Arben).

Designated pursuant to section 1(a)(ii)(C) of E.O. 13581, as amended, for being owned or controlled by, or having acted or purported to act for or on behalf of, directly or indirectly, Luftar Hysa, a person whose property and interests in property are blocked pursuant to E.O. 13581, as amended.

Designated pursuant to section 1(a)(ii)(C) of E.O. 13581, as amended, for being owned or controlled by, or having acted or purported to act for or on behalf of, directly or indirectly, Arben Hysa, a person whose property and interests in property are blocked pursuant to E.O. 13581, as amended.

17. PROCESADORA DE ALIMENTOS HS S.A. DE C.V., Nuevo Leon, Mexico; Organization Established Date 25 Sep 2015; Organization Type: Other food service activities; Folio Mercantil No. 157133 (Mexico) [TCO] (Linked To: HYSA, Arben).

Designated pursuant to section 1(a)(ii)(C) of E.O. 13581, as amended, for being owned or controlled by, or having acted or purported to act for or on behalf of, directly or indirectly, Arben Hysa, a person whose property and interests in property are blocked pursuant to E.O. 13581, as amended.

18. ROSETTA GAMING INC (a.k.a. JEUX ROSETTA INC), Montreal, Quebec, Canada; Organization Established Date 17 Dec 2014; Company Number 912385-7 (Canada); Business Number 819833187RC0001 (Canada) [TCO] (Linked To: HYSA, Luftar).

Designated pursuant to section 1(a)(ii)(C) of E.O. 13581, as amended, for being owned or controlled by, or having acted or purported to act for or on behalf of, directly or indirectly, Luftar Hysa, a person whose property and interests in property are blocked pursuant to E.O. 13581, as amended.

19. ROSETTA GAMING S.A. DE C.V., Nuevo Leon, Mexico; Organization Established Date 08 Aug 2016; Organization Type: Manufacture of industrial, electric and electronic machinery; Folio Mercantil No. 33158 (Mexico) [TCO] (Linked To: HYSA, Arben; Linked To: HYSA, Luftar).

Designated pursuant to section 1(a)(ii)(C) of E.O. 13581, as amended, for being owned or controlled by, or having acted or purported to act for or on behalf of, directly or indirectly, Arben Hysa, a person whose property and interests in property are blocked pursuant to E.O. 13581, as amended.

Designated pursuant to section 1(a)(ii)(C) of E.O. 13581, as amended, for being owned or controlled by, or having acted or purported to act for or on behalf of, directly or indirectly, Luftar Hysa, a person whose property and interests in property are blocked pursuant to E.O. 13581, as amended.

20. ROSETTA GAMING SPOLKA Z OGRANICZONA ODPOWIEDZIALNOSCIA (Latin: ROSETTA GAMING SPÓŁKA Z OGRANICZONĄ ODPOWIEDZIALNOŚCIĄ) (a.k.a. ROSETTA GAMING SP ZOO), Krakow, Poland; website https://rosettagaming.com; Organization Established Date 15 Nov 2018; V.A.T. Number 9452223453 (Poland); Registration Number KRS0000756864 (Poland) [TCO] (Linked To: HYSA, Fabjon).

Designated pursuant to section 1(a)(ii)(C) of E.O. 13581, as amended, for being owned or controlled by, or having acted or purported to act for or on behalf of, directly or indirectly, Fabjon Hysa, a person whose property and interests in property are blocked pursuant to E.O. 13581, as amended.

Bradley T. Smith,
Director, Office of Foreign Assets Control.

[FR Doc. 2025-20257 Filed 11-18-25; 8:45 am]

BILLING CODE 4810-AL-P